DEPARTMENT OF TRANSPORTATION

Federal Aviation Administration

14 CFR Parts 1, 21, 25, 26, 27, 34, 43, 45, 60, 61, 63, 65, 91, 97, 107, 110, 119, 121, 125, 129, 133, 135, 137, 141, 142, 145, and 183

[Docket No.: FAA-2018-0119; Amdt Nos. 1-72, 21-101, 25-145, 26-7, 27-49, 34-6, 43-50, 45-31, 60-5, 61-141, 63-40, 65-57A, 91-350, 97-1338, 107-2, 110-2, 119-19, 121-380, 125-68, 129-53, 133-16, 135-139, 137-17, 141-19, 142-10, 145-32, 183-17]

RIN 2120-AL05

Aviation Safety Organization Changes; Correction

AGENCY: Federal Aviation Administration (FAA), DOT.

ACTION: Final rule; correction.

SUMMARY: The FAA is correcting a final rule published on March 5, 2018. In that rule, the FAA replaced specific references to offices within the Aircraft Certification Service and the Flight Standards Service with generic references not dependent on any particular office structure. The FAA incorrectly assigned amendment number 65-56 to this rule. The correct amendment number is 65-57A and this action fixes this error.

DATES: Effective July 6, 2018.

FOR FURTHER INFORMATION CONTACT: For questions concerning AIR offices referred to in this action, contact Suzanne Masterson, Transport Standards Branch (AIR-670), Policy and Innovation Division, Aircraft Certification Service, Federal Aviation Administration, 2200 South 216th St, Des Moines, WA 98189; telephone (206) 231-3211 or (425) 227-1855; email suzanne.masterson@faa.gov.

For questions concerning AFS offices referred to in this action, contact Joseph Hemler, Commercial Operations Branch (AFS-820), Flight Standards Service, Federal Aviation Administration, 55 M Street SE, 8th floor, Washington, DC 20003-3522; telephone (202) 267-1100; email joseph.k.hemler-jr@faa.gov.

SUPPLEMENTARY INFORMATION:

Background

On March 5, 2018, the FAA published a final rule entitled, “Aviation Safety Organization Changes” (83 FR 9162). In that final rule, the FAA replaced specific references to Aircraft Certification Service (AIR) and Flight Standards Service (AFS) offices with generic references not dependent on any particular office structure. This rule did not impose any new obligations and the intent was to eliminate any confusion about with whom regulated entities and other persons should interact when complying with these various rules.

In that document, the FAA assigned amendment number 65-56 to the rule. However, the FAA previously assigned that amendment number to a final rule that published on December 16, 2014, entitled “Elimination of the air traffic control tower operator certificate for controllers who hold a federal aviation administration credential with a tower rating on” (79 FR 74607). The correct amendment number should have been 65-57A, and this action fixes that error.

Correction

1. On page 9162, in the first column, in the heading under the docket number correct “65-56” to read “65-57A”.

Issued under authority provided by 49 U.S.C. 106(f), 44701(a), and 44703 in Washington, DC, on June 27, 2018.
Dale Bouffiou,
Deputy Executive Director, Office of Rulemaking.

[FR Doc. 2018-14399 Filed 7-5-18; 8:45 am]

BILLING CODE 4910-13-P